DEPARTMENT OF AGRICULTURE

Agricultural Marketing Service

7 CFR Part 1205

[CN-01-001]

2001 Proposed Amendment to Cotton Board Rules and Regulations Adjusting Supplemental Assessment on Imports

AGENCY: Agricultural Marketing Service, USDA.

ACTION: Proposed rule.

SUMMARY: The Agricultural Marketing Service (AMS) is proposing to amend the Cotton Board Rules and Regulations by raising the value assigned to imported cotton for the purpose of calculating supplemental assessments collected for use by the Cotton Research and Promotion Program. An adjustment is required on an annual basis to ensure that the assessments collected on imported cotton and the cotton content of imported products remain similar to those paid on domestically produced cotton.

DATE: Comments must be received on or before September 12, 2001.

ADDRESSES: Interested persons are invited to submit written comments concerning this proposed rule. Comments may be mailed to USDA, AMS, Cotton Program, STOP 0224, 1400 Independence Avenue, SW, Washington, DC 20250-0224 or Email cottoncomments@usda.gov. Comments should reference the docket number and the date and page number of this issue of the Federal Register and will be available for public inspection at this address during the hours of 8:00 a.m. to 4:00 p.m., Monday through Friday.

FOR FURTHER INFORMATION CONTACT: Whitney Rick, (202) 720-2259.

SUPPLEMENTARY INFORMATION:

Executive Order 12866

This proposed rule has been determined to be “not significant” for purposes of Executive Order 12866, and, therefore, has not been reviewed by the Office of Management and Budget.

Executive Order 12988

This proposed rule has been reviewed under Executive Order 12988, Civil Justice Reform. It is not intended to have retroactive effect. This proposed rule would not preempt any state or local laws, regulations, or policies, unless they present an irreconcilable conflict with this rule.

The Cotton Research and Promotion Act provides that administrative proceedings must be exhausted before parties may file suit in court. Under Section 12 of the Act, any person subject to an order may file with the Secretary a petition stating that the order, any provision of the plan, or any obligation imposed in connection with the order is not in accordance with law and requesting a modification of the order or to be exempted therefrom. Such person is afforded the opportunity for a hearing on the petition. After the hearing, the Secretary would rule on the petition. The Act provides that the District Court of the United States in any district in which the person is an inhabitant, or has his principal place of business, has jurisdiction to review the Secretary's ruling, provided a complaint is filed within 20 days from the date of the entry of ruling.

Regulatory Flexibility Act

Pursuant to requirements set forth in the Regulatory Flexibility Act (RFA) (5 U.S.C. 601 et seq.) AMS has considered the economic impact of this action on small entities and has determined that its implementation will not have a significant economic impact on a substantial number of small businesses.

There are an estimated 10,000 importers who are presently subject to rules and regulations issued pursuant to the Cotton Research and Promotion Order. This proposed rule would affect importers of cotton and cotton-containing products. The majority of these importers are small businesses under the criteria established by the Small Business Administration. This proposed rule would raise the assessments paid by the importers under the Cotton Research and Promotion Order. Even though the assessment would be raised, the increase is small and will not significantly affect small businesses.

The current assessment on imported cotton is $0.009833 per kilogram of imported cotton. The proposed assessment is $0.009965, an increase of $0.000132 or a 1.34 percent increase from the current assessment. From January through December 2000 approximately $20 million was collected at the $0.009833 per kilogram rate. Should the volume of cotton products imported into the U.S. remain at the same level in 2001, one could expect the increased assessment to generate approximately $20.2 million or a 1.34 percent increase from 2000.

Paperwork Reduction

In compliance with Office of Management and Budget (OMB) regulations (5 CFR Part 1320) which implement the Paperwork Reduction Act (PRA) (44 U.S.C. 3501 et seq.) the information collection requirements contained in the regulation to be amended have been previously approved by OMB and were assigned control number 0581-0093.

Background

The Cotton Research and Promotion Act Amendments of 1990 enacted by Congress under Subtitle G of Title XIX of the Food, Agriculture, Conservation and Trade Act of 1990 on November 28, 1990, contained two provisions that authorized changes in the funding procedures for the Cotton Research and Promotion Program.

These provisions are: (1) The assessment of imported cotton and cotton products; and (2) termination of the right of cotton producers to demand a refund of assessments.

An amended Cotton Research and Promotion Order was approved by producers and importers voting in a referendum held July 17-26, 1991, and the amended Order was published in the Federal Register on December 10, 1991, (56 FR 64470). Proposed rule implementing the amended Order were published in the Federal Register on December 17, 1991, (56 FR 65450). Implementing rules were published on July 1 and 2, 1992, (57 FR 29181) and (57 FR 29431), respectively.

This proposed rule would increase the value assigned to imported cotton in the Cotton Board Rules and Regulations (7 CFR 1205.510(b)(2)). This value is used to calculate supplemental assessments on imported cotton and the cotton content of imported products. Supplemental assessments are the second part of a two-part assessment. The first part of the assessment is levied on the weight of cotton produced or imported at a rate of $1 per bale of cotton which is equivalent to 500 pounds or $1 per 226.8 kilograms of cotton.

Supplemental assessments are levied at a rate of five-tenths of one percent of the value of domestically produced cotton, imported cotton, and the cotton content of imported products. The agency has adopted the practice of assigning the calendar year weighted average price received by U.S. farmers for Upland cotton to represent the value of imported cotton. This is done so that the assessment on domestically produced cotton and the assessment on imported cotton and the cotton content of imported products remain similar. The source for the average price statistic is “Agricultural Prices”, a publication of the National Agricultural Statistics Service (NASS) of the Department of Agriculture. Use of the weighted average price figure in the calculation of supplemental assessments on imported cotton and the cotton content of imported products yields an assessment that approximates assessments paid on domestically produced cotton in the prior calendar year.

The current value of imported cotton as published in the Federal Register (65 FR 25236) on May 1, 2000, for the purpose of calculating supplemental assessments on imported cotton is $1.0847 per kilogram. This number was calculated using the annual weighted average price received by farmers for Upland cotton during the calendar year 1999 which was $0.492 per pound and multiplying by the conversion factor 2.2046. Using the Average Weighted Price Received by U.S. farmers for Upland cotton for the calendar year 2000, which is $0.504 per pound, the new value of imported cotton is $1.1111 per kilogram. The proposed value is $.0264 per kilogram more than the previous value.

An example of the complete assessment formula and how the various figures are obtained is as follows:

One bale is equal to 500 pounds.

One kilogram equals 2.2046 pounds.

One pound equals 0.453597 kilograms.

One Dollar Per Bale Assessment Converted to Kilograms

A 500 pound bale equals 226.8 kg. (500 x .453597).

$1 per bale assessment equals $0.002000 per pound (1 ÷ 500) or $0.004409 per kg. (1 ÷ 226.8).

Supplemental Assessment of 5/10 of One Percent of the Value of the Cotton Converted to Kilograms.

The 2000 calendar year weighted average price received by producers for Upland cotton is $0.504 per pound or $1.1111 per kg. (0.504 x 2.2046) = 1.1111.

Five tenths of one percent of the average price in kg. equals $0.005556 per kg. (1.1111 x .005).

Total Assessment

The total assessment per kilogram of raw cotton is obtained by adding the $1 per bale equivalent assessment of $0.004409 per kg. and the supplemental assessment $0.005556 per kg. which equals $0.009965 per kg.

The current assessment on imported cotton is $0.009833 per kilogram of imported cotton. The proposed assessment is $0.009965, an increase of $0.000132 per kilogram. This increase reflects the increase in the Average Weighted Price of Upland Cotton Received by U.S. Farmers during the period January through December 2000.

Since the value of cotton is the basis of the supplemental assessment calculation and the figures shown in the right hand column of the Import Assessment Table 1205.510(b)(3) are a result of such a calculation, the figures in this table have been revised. These figures indicate the total assessment per kilogram due for each Harmonized Tariff Schedule (HTS) number subject to assessment.

One HTS number subject to assessment pursuant to this regulation and found in the assessment table has been changed. In order to maintain consistency between the HTS and the assessment table, the changes to this one number have been incorporated into the assessment table. The last two digits of this number were changed to provide for statistical reporting purposes and involve no physical change to the products they represent. The assessment rate for the one number has been applied to each of the new replacement numbers in the assessment table. The following table represents the changes:

Old No. | New No. | Conversion factor | Assessment cents/kg.
6303910000 | 6303910010 | 0.6429 | 0.6406
| 6303910020 | 0.6429 | 0.6406

A thirty day comment period is provided to comment on the changes to the Cotton Board Rules and Regulations proposed herein. This period is deemed appropriate because this proposal would slightly raise the assessments paid by importers under the Cotton Research and Promotion Order and would ensure that the measurements collected for imported cotton content products remain similar to those paid on domestically produced cotton. Accordingly, the change proposed in this rule, if adopted, should be implemented as soon as possible.

List of Subjects in 7 CFR Part 1205

Advertising, Agricultural research, Cotton, Marketing agreements, Reporting and recordkeeping requirements.

For the reasons set forth in the preamble, it is proposed that 7 CFR Part 1205 be amended as follows:

PART 1205—COTTON RESEARCH AND PROMOTION

1. The authority citation for Part 1205 continues to read as follows:

Authority: 7 U.S.C. 2101-2118.

2. In § 1205.510, paragraph (b)(2) and the table in paragraph (b)(3)(ii) are revised to read as follows:

§ 1205.510 Levy of assessments.

* * * * *

(b) * * *

(2) The 12-month average of monthly weighted average prices received by U.S. farmers will be calculated annually. Such weighted average will be used as the value of imported cotton for the purpose of levying the supplemental assessment on imported cotton and will be expressed in kilograms. The value of imported cotton for the purpose of levying this supplemental assessment is $0.9965 per kilogram.

(3) * * *

(ii) * * *

Import Assessment Table
[Raw Cotton Fiber]
HTS No. | Conv. fact. | Cents/kg.
5201000500 | 0 | 0.9965
5201001200 | 0 | 0.9965
5201001400 | 0 | 0.9965
5201001800 | 0 | 0.9965
5201002200 | 0 | 0.9965
5201002400 | 0 | 0.9965
5201002800 | 0 | 0.9965
5201003400 | 0 | 0.9965
5201003800 | 0 | 0.9965
5204110000 | 1.1111 | 1.1072
5204200000 | 1.1111 | 1.1072
5205111000 | 1.1111 | 1.1072
5205112000 | 1.1111 | 1.1072
5205121000 | 1.1111 | 1.1072
5205122000 | 1.1111 | 1.1072
5205131000 | 1.1111 | 1.1072
5205132000 | 1.1111 | 1.1072
5205141000 | 1.1111 | 1.1072
5205210020 | 1.1111 | 1.1072
5205210090 | 1.1111 | 1.1072
5205220020 | 1.1111 | 1.1072
5205220090 | 1.1111 | 1.1072
5205230020 | 1.1111 | 1.1072
5205230090 | 1.1111 | 1.1072
5205240020 | 1.1111 | 1.1072
5205240090 | 1.1111 | 1.1072
5205310000 | 1.1111 | 1.1072
5205320000 | 1.1111 | 1.1072
5205330000 | 1.1111 | 1.1072
5205340000 | 1.1111 | 1.1072
5205410020 | 1.1111 | 1.1072
5205410090 | 1.1111 | 1.1072
5205420020 | 1.1111 | 1.1072
5205420090 | 1.1111 | 1.1072
5205440020 | 1.1111 | 1.1072
5205440090 | 1.1111 | 1.1072
5206120000 | 0.5556 | 0.5537
5206130000 | 0.5556 | 0.5537
5206140000 | 0.5556 | 0.5537
5206220000 | 0.5556 | 0.5537
5206230000 | 0.5556 | 0.5537
5206240000 | 0.5556 | 0.5537
5206310000 | 0.5556 | 0.5537
5207100000 | 1.1111 | 1.1072
5207900000 | 0.5556 | 0.5537
5208112020 | 1.1455 | 1.1415
5208112040 | 1.1455 | 1.1415
5208112090 | 1.1455 | 1.1415
5208114020 | 1.1455 | 1.1415
5208114060 | 1.1455 | 1.1415
5208114090 | 1.1455 | 1.1415
5208118090 | 1.1455 | 1.1415
5208124020 | 1.1455 | 1.1415
5208124040 | 1.1455 | 1.1415
5208124090 | 1.1455 | 1.1415
5208126020 | 1.1455 | 1.1415
5208126040 | 1.1455 | 1.1415
5208126060 | 1.1455 | 1.1415
5208126090 | 1.1455 | 1.1415
5208128020 | 1.1455 | 1.1415
5208128090 | 1.1455 | 1.1415
5208130000 | 1.1455 | 1.1415
5208192020 | 1.1455 | 1.1415
5208192090 | 1.1455 | 1.1415
5208194020 | 1.1455 | 1.1415
5208194090 | 1.1455 | 1.1415
5208196020 | 1.1455 | 1.1415
5208196090 | 1.1455 | 1.1415
5208224040 | 1.1455 | 1.1415
5208224090 | 1.1455 | 1.1415
5208226020 | 1.1455 | 1.1415
5208226060 | 1.1455 | 1.1415
5208228020 | 1.1455 | 1.1415
5208230000 | 1.1455 | 1.1415
5208292020 | 1.1455 | 1.1415
5208292090 | 1.1455 | 1.1415
5208294090 | 1.1455 | 1.1415
5208296090 | 1.1455 | 1.1415
5208298020 | 1.1455 | 1.1415
5208312000 | 1.1455 | 1.1415
5208321000 | 1.1455 | 1.1415
5208323020 | 1.1455 | 1.1415
5208323040 | 1.1455 | 1.1415
5208323090 | 1.1455 | 1.1415
5208324020 | 1.1455 | 1.1415
5208324040 | 1.1455 | 1.1415
5208325020 | 1.1455 | 1.1415
5208330000 | 1.1455 | 1.1415
5208392020 | 1.1455 | 1.1415
5208392090 | 1.1455 | 1.1415
5208394090 | 1.1455 | 1.1415
5208396090 | 1.1455 | 1.1415
5208398020 | 1.1455 | 1.1415
5208412000 | 1.1455 | 1.1415
5208416000 | 1.1455 | 1.1415
5208418000 | 1.1455 | 1.1415
5208421000 | 1.1455 | 1.1415
5208423000 | 1.1455 | 1.1415
5208424000 | 1.1455 | 1.1415
5208425000 | 1.1455 | 1.1415
5208430000 | 1.1455 | 1.1415
5208492000 | 1.1455 | 1.1415
5208494020 | 1.1455 | 1.1415
5208494090 | 1.1455 | 1.1415
5208496010 | 1.1455 | 1.1415
5208496090 | 1.1455 | 1.1415
5208498090 | 1.1455 | 1.1415
5208512000 | 1.1455 | 1.1415
5208516060 | 1.1455 | 1.1415
5208518090 | 1.1455 | 1.1415
5208523020 | 1.1455 | 1.1415
5208523045 | 1.1455 | 1.1415
5208523090 | 1.1455 | 1.1415
5208524020 | 1.1455 | 1.1415
5208524045 | 1.1455 | 1.1415
5208524065 | 1.1455 | 1.1415
5208525020 | 1.1455 | 1.1415
5208530000 | 1.1455 | 1.1415
5208592025 | 1.1455 | 1.1415
5208592095 | 1.1455 | 1.1415
5208594090 | 1.1455 | 1.1415
5208596090 | 1.1455 | 1.1415
5209110020 | 1.1455 | 1.1415
5209110035 | 1.1455 | 1.1415
5209110090 | 1.1455 | 1.1415
5209120020 | 1.1455 | 1.1415
5209120040 | 1.1455 | 1.1415
5209190020 | 1.1455 | 1.1415
5209190040 | 1.1455 | 1.1415
5209190060 | 1.1455 | 1.1415
5209190090 | 1.1455 | 1.1415
5209210090 | 1.1455 | 1.1415
5209220020 | 1.1455 | 1.1415
5209220040 | 1.1455 | 1.1415
5209290040 | 1.1455 | 1.1415
5209290090 | 1.1455 | 1.1415
5209313000 | 1.1455 | 1.1415
5209316020 | 1.1455 | 1.1415
5209316035 | 1.1455 | 1.1415
5209316050 | 1.1455 | 1.1415
5209316090 | 1.1455 | 1.1415
5209320020 | 1.1455 | 1.1415
5209320040 | 1.1455 | 1.1415
5209390020 | 1.1455 | 1.1415
5209390040 | 1.1455 | 1.1415
5209390060 | 1.1455 | 1.1415
5209390080 | 1.1455 | 1.1415
5209390090 | 1.1455 | 1.1415
5209413000 | 1.1455 | 1.1415
5209416020 | 1.1455 | 1.1415
5209416040 | 1.1455 | 1.1415
5209420020 | 1.0309 | 1.0273
5209420040 | 1.0309 | 1.0273
5209430030 | 1.1455 | 1.1415
5209430050 | 1.1455 | 1.1415
5209490020 | 1.1455 | 1.1415
5209490090 | 1.1455 | 1.1415
5209516035 | 1.1455 | 1.1415
5209516050 | 1.1455 | 1.1415
5209520020 | 1.1455 | 1.1415
5209590025 | 1.1455 | 1.1415
5209590040 | 1.1455 | 1.1415
5209590090 | 1.1455 | 1.1415
5210114020 | 0.6873 | 0.6849
5210114040 | 0.6873 | 0.6849
5210116020 | 0.6873 | 0.6849
5210116040 | 0.6873 | 0.6849
5210116060 | 0.6873 | 0.6849
5210118020 | 0.6873 | 0.6849
5210120000 | 0.6873 | 0.6849
5210192090 | 0.6873 | 0.6849
5210214040 | 0.6873 | 0.6849
5210216020 | 0.6873 | 0.6849
5210216060 | 0.6873 | 0.6849
5210218020 | 0.6873 | 0.6849
5210314020 | 0.6873 | 0.6849
5210314040 | 0.6873 | 0.6849
5210316020 | 0.6873 | 0.6849
5210318020 | 0.6873 | 0.6849
5210414000 | 0.6873 | 0.6849
5210416000 | 0.6873 | 0.6849
5210418000 | 0.6873 | 0.6849
5210498090 | 0.6873 | 0.6849
5210514040 | 0.6873 | 0.6849
5210516020 | 0.6873 | 0.6849
5210516040 | 0.6873 | 0.6849
5210516060 | 0.6873 | 0.6849
5211110090 | 0.6873 | 0.6849
5211120020 | 0.6873 | 0.6849
5211190020 | 0.6873 | 0.6849
5211190060 | 0.6873 | 0.6849
5211210025 | 0.6873 | 0.6849
5211210035 | 0.4165 | 0.415
5211210050 | 0.6873 | 0.6849
5211290090 | 0.6873 | 0.6849
5211320020 | 0.6873 | 0.6849
5211390040 | 0.6873 | 0.6849
5211390060 | 0.6873 | 0.6849
5211490020 | 0.6873 | 0.6849
5211490090 | 0.6873 | 0.6849
5211590025 | 0.6873 | 0.6849
5212146090 | 0.9164 | 0.9132
5212156020 | 0.9164 | 0.9132
5212216090 | 0.9164 | 0.9132
5509530030 | 0.5556 | 0.5537
5509530060 | 0.5556 | 0.5537
5513110020 | 0.4009 | 0.3995
5513110040 | 0.4009 | 0.3995
5513110060 | 0.4009 | 0.3995
5513110090 | 0.4009 | 0.3995
5513120000 | 0.4009 | 0.3995
5513130020 | 0.4009 | 0.3995
5513210020 | 0.4009 | 0.3995
5513310000 | 0.4009 | 0.3995
5514120020 | 0.4009 | 0.3995
5516420060 | 0.4009 | 0.3995
5516910060 | 0.4009 | 0.3995
5516930090 | 0.4009 | 0.3995
5601210010 | 1.1455 | 1.1415
5601210090 | 1.1455 | 1.1415
5601300000 | 1.1455 | 1.1415
5602109090 | 0.5727 | 0.5707
5602290000 | 1.1455 | 1.1415
5602906000 | 0.526 | 0.5242
5604900000 | 0.5556 | 0.5537
5607902000 | 0.8889 | 0.8858
5608901000 | 1.1111 | 1.1072
5608902300 | 1.1111 | 1.1072
5609001000 | 1.1111 | 1.1072
5609004000 | 0.5556 | 0.5537
5701104000 | 0.0556 | 0.055
5701109000 | 0.1111 | 0.1107
5701901010 | 1.0444 | 1.0407
5702109020 | 1.1 | 1.0962
5702312000 | 0.0778 | 0.078
5702411000 | 0.0722 | 0.072
5702412000 | 0.0778 | 0.078
5702421000 | 0.0778 | 0.078
5702913000 | 0.0889 | 0.089
5702991010 | 1.1111 | 1.1072
5702991090 | 1.1111 | 1.1072
5703900000 | 0.4489 | 0.4473
5801210000 | 1.1455 | 1.1415
5801230000 | 1.1455 | 1.1415
5801250010 | 1.1455 | 1.1415
5801250020 | 1.1455 | 1.1415
5801260020 | 1.1455 | 1.1415
5802190000 | 1.1455 | 1.1415
5802300030 | 0.5727 | 0.5707
5804291000 | 1.1455 | 1.1415
5806200010 | 0.3534 | 0.3522
5806200090 | 0.3534 | 0.3522
5806310000 | 1.1455 | 1.1415
5806400000 | 0.4296 | 0.4281
5808107000 | 0.5727 | 0.5707
5808900010 | 0.5727 | 0.5707
5811002000 | 1.1455 | 1.1415
6001106000 | 1.1455 | 1.1415
6001210000 | 0.8591 | 0.8561
6001220000 | 0.2864 | 0.2854
6001910010 | 0.8591 | 0.8561
6001910020 | 0.8591 | 0.8561
6001920020 | 0.2864 | 0.2854
6001920030 | 0.2864 | 0.2854
6001920040 | 0.2864 | 0.2854
6002203000 | 0.8681 | 0.8651
6002206000 | 0.2894 | 0.2884
6002420000 | 0.8681 | 0.8651
6002430010 | 0.2894 | 0.2884
6002430080 | 0.2894 | 0.2884
6002921000 | 1.1574 | 1.1533
6002930040 | 0.1157 | 0.1153
6002930080 | 0.1157 | 0.1153
6101200010 | 1.0094 | 1.0059
6101200020 | 1.0094 | 1.0059
6102200010 | 1.0094 | 1.0059
6102200020 | 1.0094 | 1.0059
6103421020 | 0.8806 | 0.8775
6103421040 | 0.8806 | 0.8775
6103421050 | 0.8806 | 0.8775
6103421070 | 0.8806 | 0.8775
6103431520 | 0.2516 | 0.2507
6103431540 | 0.2516 | 0.2507
6103431550 | 0.2516 | 0.2507
6103431570 | 0.2516 | 0.2507
6104220040 | 0.9002 | 0.897
6104220060 | 0.9002 | 0.897
6104320000 | 0.9207 | 0.9175
6104420010 | 0.9002 | 0.897
6104420020 | 0.9002 | 0.897
6104520010 | 0.9312 | 0.9279
6104520020 | 0.9312 | 0.9279
6104622006 | 0.8806 | 0.8775
6104622011 | 0.8806 | 0.8775
6104622016 | 0.8806 | 0.8775
6104622021 | 0.8806 | 0.8775
6104622026 | 0.8806 | 0.8775
6104622028 | 0.8806 | 0.8775
6104622030 | 0.8806 | 0.8775
6104622060 | 0.8806 | 0.8775
6104632006 | 0.3774 | 0.3761
6104632011 | 0.3774 | 0.3761
6104632026 | 0.3774 | 0.3761
6104632028 | 0.3774 | 0.3761
6104632030 | 0.3774 | 0.3761
6104632060 | 0.3774 | 0.3761
6104692030 | 0.3858 | 0.3844
6105100010 | 0.985 | 0.9816
6105100020 | 0.985 | 0.9816
6105100030 | 0.985 | 0.9816
6105202010 | 0.3078 | 0.3067
6105202030 | 0.3078 | 0.3067
6106100010 | 0.985 | 0.9816
6106100020 | 0.985 | 0.9816
6106100030 | 0.985 | 0.9816
6106202010 | 0.3078 | 0.3067
6106202030 | 0.3078 | 0.3067
6107110010 | 1.1322 | 1.1282
6107110020 | 1.1322 | 1.1282
6107120010 | 0.5032 | 0.5014
6107210010 | 0.8806 | 0.8775
6107220015 | 0.3774 | 0.3761
6107220025 | 0.3774 | 0.3761
6107910040 | 1.2581 | 1.2537
6108210010 | 1.2445 | 1.2401
6108210020 | 1.2445 | 1.2401
6108310010 | 1.1201 | 1.1162
6108310020 | 1.1201 | 1.1162
6108320010 | 0.2489 | 0.248
6108320015 | 0.2489 | 0.248
6108320025 | 0.2489 | 0.248
6108910005 | 1.2445 | 1.240
6108910015 | 1.2445 | 1.2401
6108910025 | 1.2445 | 1.2401
6108910030 | 1.2445 | 1.2401
6108920030 | 0.2489 | 0.248
6109100005 | 0.9956 | 0.9921
6109100007 | 0.9956 | 0.9921
6109100009 | 0.9956 | 0.9921
6109100012 | 0.9956 | 0.9921
6109100014 | 0.9956 | 0.9921
6109100018 | 0.9956 | 0.9921
6109100023 | 0.9956 | 0.9921
6109100027 | 0.9956 | 0.9921
6109100037 | 0.9956 | 0.9921
6109100040 | 0.9956 | 0.9921
6109100045 | 0.9956 | 0.9921
6109100060 | 0.9956 | 0.9921
6109100065 | 0.9956 | 0.9921
6109100070 | 0.9956 | 0.9921
6109901007 | 0.3111 | 0.31
6109901009 | 0.3111 | 0.31
6109901049 | 0.3111 | 0.31
6109901050 | 0.3111 | 0.31
6109901060 | 0.3111 | 0.31
6109901065 | 0.3111 | 0.31
6109901090 | 0.3111 | 0.31
6110202005 | 1.1837 | 1.1796
6110202010 | 1.1837 | 1.1796
6110202015 | 1.1837 | 1.1796
6110202020 | 1.1837 | 1.1796
6110202025 | 1.1837 | 1.1796
6110202030 | 1.1837 | 1.1796
6110202035 | 1.1837 | 1.1796
6110202040 | 1.1574 | 1.1533
6110202045 | 1.1574 | 1.1533
6110202065 | 1.1574 | 1.1533
6110202075 | 1.1574 | 1.1533
6110909022 | 0.263 | 0.2621
6110909024 | 0.263 | 0.2621
6110909030 | 0.3946 | 0.3932
6110909040 | 0.263 | 0.2621
6110909042 | 0.263 | 0.2621
6111201000 | 1.2581 | 1.2537
6111202000 | 1.2581 | 1.2537
6111203000 | 1.0064 | 1.0029
6111205000 | 1.0064 | 1.0029
6111206010 | 1.0064 | 1.0029
6111206020 | 1.0064 | 1.0029
6111206030 | 1.0064 | 1.0029
6111206040 | 1.0064 | 1.0029
6111305020 | 0.2516 | 0.2507
6111305040 | 0.2516 | 0.2507
6112110050 | 0.7548 | 0.7522
6112120010 | 0.2516 | 0.2507
6112120030 | 0.2516 | 0.2507
6112120040 | 0.2516 | 0.2507
6112120050 | 0.2516 | 0.2507
6112120060 | 0.2516 | 0.2507
6112390010 | 1.1322 | 1.1282
6112490010 | 0.9435 | 0.9402
6114200005 | 0.9002 | 0.897
6114200010 | 0.9002 | 0.897
6114200015 | 0.9002 | 0.897
6114200020 | 1.286 | 1.2815
6114200040 | 0.9002 | 0.897
6114200046 | 0.9002 | 0.897
6114200052 | 0.9002 | 0.897
6114200060 | 0.9002 | 0.897
6114301010 | 0.2572 | 0.2563
6114301020 | 0.2572 | 0.2563
6114303030 | 0.2572 | 0.2563
6115198010 | 1.0417 | 1.0381
6115929000 | 1.0417 | 1.0381
6115936020 | 0.2315 | 0.2307
6116101300 | 0.3655 | 0.3642
6116101720 | 0.8528 | 0.8498
6116926420 | 1.0965 | 1.0927
6116926430 | 1.2183 | 1.214
6116926440 | 1.0965 | 1.0927
6116928800 | 1.0965 | 1.0927
6117809510 | 0.9747 | 0.9713
6117809540 | 0.3655 | 0.3642
6201121000 | 0.948 | 0.9447
6201122010 | 0.8953 | 0.8922
6201122050 | 0.6847 | 0.6823
6201122060 | 0.6847 | 0.6823
6201134030 | 0.2633 | 0.2624
6201921000 | 0.9267 | 0.9235
6201921500 | 1.1583 | 1.1542
6201922010 | 1.0296 | 1.026
6201922021 | 1.2871 | 1.2826
6201922031 | 1.2871 | 1.2826
6201922041 | 1.2871 | 1.2826
6201922051 | 1.0296 | 1.026
6201922061 | 1.0296 | 1.026
6201931000 | 0.3089 | 0.3078
6201933511 | 0.2574 | 0.2565
6201933521 | 0.2574 | 0.2565
6201999060 | 0.2574 | 0.2565
6202121000 | 0.9372 | 0.9339
6202122010 | 1.1064 | 1.1025
6202122025 | 1.3017 | 1.2971
6202122050 | 0.8461 | 0.8431
6202122060 | 0.8461 | 0.8431
6202134005 | 0.2664 | 0.2655
6202134020 | 0.333 | 0.3318
6202921000 | 1.0413 | 1.0377
6202921500 | 1.0413 | 1.0377
6202922026 | 1.3017 | 1.2971
6202922061 | 1.0413 | 1.0377
6202922071 | 1.0413 | 1.0377
6202931000 | 0.3124 | 0.3113
6202935011 | 0.2603 | 0.2594
6202935021 | 0.2603 | 0.2594
6203122010 | 0.1302 | 0.1297
6203221000 | 1.3017 | 1.2971
6203322010 | 1.2366 | 1.2323
6203322040 | 1.2366 | 1.2323
6203332010 | 0.1302 | 0.1297
6203392010 | 1.1715 | 1.1674
6203399060 | 0.2603 | 0.2594
6203422010 | 0.9961 | 0.9926
6203422025 | 0.9961 | 0.9926
6203422050 | 0.9961 | 0.9926
6203422090 | 0.9961 | 0.9926
6203424005 | 1.2451 | 1.2407
6203424010 | 1.2451 | 1.2407
6203424015 | 0.9961 | 0.9926
6203424020 | 1.2451 | 1.2407
6203424025 | 1.2451 | 1.2407
6203424030 | 1.2451 | 1.2407
6203424035 | 1.2451 | 1.2407
6203424040 | 0.9961 | 0.9926
6203424045 | 0.9961 | 0.9926
6203424050 | 0.9238 | 0.9206
6203424055 | 0.9238 | 0.9206
6203424060 | 0.9238 | 0.9206
6203431500 | 0.1245 | 0.1241
6203434010 | 0.1232 | 0.1228
6203434020 | 0.1232 | 0.1228
6203434030 | 0.1232 | 0.1228
6203434040 | 0.1232 | 0.1228
6203498045 | 0.249 | 0.2481
6204132010 | 0.1302 | 0.1297
6204192000 | 0.1302 | 0.1297
6204198090 | 0.2603 | 0.2594
6204221000 | 1.3017 | 1.2971
6204223030 | 1.0413 | 1.0377
6204223040 | 1.0413 | 1.0377
6204223050 | 1.0413 | 1.0377
6204223060 | 1.0413 | 1.0377
6204223065 | 1.0413 | 1.0377
6204292040 | 0.3254 | 0.3243
6204322010 | 1.2366 | 1.2323
6204322030 | 1.0413 | 1.0377
6204322040 | 1.0413 | 1.0377
6204423010 | 1.2728 | 1.2683
6204423030 | 0.9546 | 0.9513
6204423040 | 0.9546 | 0.9513
6204423050 | 0.9546 | 0.9513
6204423060 | 0.9546 | 0.9513
6204522010 | 1.2654 | 1.261
6204522030 | 1.2654 | 1.261
6204522040 | 1.2654 | 1.261
6204522070 | 1.0656 | 1.0619
6204522080 | 1.0656 | 1.0619
6204533010 | 0.2664 | 0.2655
6204594060 | 0.2664 | 0.2655
6204622010 | 0.9961 | 0.9926
6204622025 | 0.9961 | 0.9926
6204622050 | 0.9961 | 0.9926
6204624005 | 1.2451 | 1.2407
6204624010 | 1.2451 | 1.2407
6204624020 | 0.9961 | 0.9926
6204624025 | 1.2451 | 1.2407
6204624030 | 1.2451 | 1.2407
6204624035 | 1.2451 | 1.2407
6204624040 | 1.2451 | 1.2407
6204624045 | 0.9961 | 0.9926
6204624050 | 0.9961 | 0.9926
6204624055 | 0.9854 | 0.982
6204624060 | 0.9854 | 0.982
6204624065 | 0.9854 | 0.982
6204633510 | 0.2546 | 0.2537
6204633530 | 0.2546 | 0.2537
6204633532 | 0.2437 | 0.2428
6204633540 | 0.2437 | 0.2428
6204692510 | 0.249 | 0.2481
6204692540 | 0.2437 | 0.2428
6204699044 | 0.249 | 0.2481
6204699046 | 0.249 | 0.2481
6204699050 | 0.249 | 0.2481
6205202015 | 0.9961 | 0.9926
6205202020 | 0.9961 | 0.9926
6205202025 | 0.9961 | 0.9926
6205202030 | 0.9961 | 0.9926
6205202035 | 1.1206 | 1.1167
6205202046 | 0.9961 | 0.9926
6205202050 | 0.9961 | 0.9926
6205202060 | 0.9961 | 0.9926
6205202065 | 0.9961 | 0.9926
6205202070 | 0.9961 | 0.9926
6205202075 | 0.9961 | 0.9926
6205302010 | 0.3113 | 0.3102
6205302030 | 0.3113 | 0.3102
6205302040 | 0.3113 | 0.3102
6205302050 | 0.3113 | 0.3102
6205302070 | 0.3113 | 0.3102
6205302080 | 0.3113 | 0.3102
6206100040 | 0.1245 | 0.1241
6206303010 | 0.9961 | 0.9926
6206303020 | 0.9961 | 0.9926
6206303030 | 0.9961 | 0.9926
6206303040 | 0.9961 | 0.9926
6206303050 | 0.9961 | 0.9926
6206303060 | 0.9961 | 0.9926
6206403010 | 0.3113 | 0.3102
6206403030 | 0.3113 | 0.3102
6206900040 | 0.249 | 0.2481
6207110000 | 1.0852 | 1.0814
6207199010 | 0.3617 | 0.3604
6207210010 | 1.1085 | 1.1046
6207210030 | 1.1085 | 1.1046
6207220000 | 0.3695 | 0.3682
6207911000 | 1.1455 | 1.1415
6207913010 | 1.1455 | 1.1415
6207913020 | 1.1455 | 1.1415
6208210010 | 1.0583 | 1.0546
6208210020 | 1.0583 | 1.0546
6208220000 | 0.1245 | 0.1241
6208911010 | 1.1455 | 1.1415
6208911020 | 1.1455 | 1.1415
6208913010 | 1.1455 | 1.1415
6209201000 | 1.1577 | 1.1536
6209203000 | 0.9749 | 0.9715
6209205030 | 0.9749 | 0.9715
6209205035 | 0.9749 | 0.9715
6209205040 | 1.2186 | 1.2143
6209205045 | 0.9749 | 0.9715
6209205050 | 0.9749 | 0.9715
6209303020 | 0.2463 | 0.2454
6209303040 | 0.2463 | 0.2454
6210109010 | 0.2291 | 0.2283
6210403000 | 0.0391 | 0.039
6210405020 | 0.4556 | 0.454
6211111010 | 0.1273 | 0.1269
6211111020 | 0.1273 | 0.1269
6211118010 | 1.1455 | 1.1415
6211118020 | 1.1455 | 1.1415
6211320007 | 0.8461 | 0.8431
6211320010 | 1.0413 | 1.0377
6211320015 | 1.0413 | 1.0377
6211320030 | 0.9763 | 0.9729
6211320060 | 0.9763 | 0.9729
6211320070 | 0.9763 | 0.9729
6211330010 | 0.3254 | 0.3243
6211330030 | 0.3905 | 0.3891
6211330035 | 0.3905 | 0.3891
6211330040 | 0.3905 | 0.3891
6211420010 | 1.0413 | 1.0377
6211420020 | 1.0413 | 1.0377
6211420025 | 1.1715 | 1.1674
6211420060 | 1.0413 | 1.0377
6211420070 | 1.1715 | 1.1674
6211430010 | 0.2603 | 0.2594
6211430030 | 0.2603 | 0.2594
6211430040 | 0.2603 | 0.2594
6211430050 | 0.2603 | 0.2594
6211430060 | 0.2603 | 0.2594
6211430066 | 0.2603 | 0.2594
6212105020 | 0.2412 | 0.2404
6212109010 | 0.9646 | 0.9612
6212109020 | 0.2412 | 0.2404
6212200020 | 0.3014 | 0.3003
6212900030 | 0.1929 | 0.1922
6213201000 | 1.1809 | 1.1768
6213202000 | 1.0628 | 1.0591
6213901000 | 0.4724 | 0.4707
6214900010 | 0.9043 | 0.9011
6216000800 | 0.2351 | 0.2343
6216001720 | 0.6752 | 0.6728
6216003800 | 1.2058 | 1.2016
6216004100 | 1.2058 | 1.2016
6217109510 | 1.0182 | 1.0146
6217109530 | 0.2546 | 0.2537
6301300010 | 0.8766 | 0.8735
6301300020 | 0.8766 | 0.8735
6302100005 | 1.1689 | 1.1648
6302100008 | 1.1689 | 1.1648
6302100015 | 1.1689 | 1.1648
6302215010 | 0.8182 | 0.8153
6302215020 | 0.8182 | 0.8153
6302217010 | 1.1689 | 1.1648
6302217020 | 1.1689 | 1.1648
6302217050 | 1.1689 | 1.1648
6302219010 | 0.8182 | 0.8153
6302219020 | 0.8182 | 0.8153
6302219050 | 0.8182 | 0.8153
6302222010 | 0.4091 | 0.4077
6302222020 | 0.4091 | 0.4077
6302313010 | 0.8182 | 0.8153
6302313050 | 1.1689 | 1.1648
6302315050 | 0.8182 | 0.8153
6302317010 | 1.1689 | 1.1648
6302317020 | 1.1689 | 1.1648
6302317040 | 1.1689 | 1.1648
6302317050 | 1.1689 | 1.1648
6302319010 | 0.8182 | 0.8153
6302319040 | 0.8182 | 0.8153
6302319050 | 0.8182 | 0.8153
6302322020 | 0.4091 | 0.4077
6302322040 | 0.4091 | 0.4077
6302402010 | 0.9935 | 0.99
6302511000 | 0.5844 | 0.5824
6302512000 | 0.8766 | 0.8735
6302513000 | 0.5844 | 0.5824
6302514000 | 0.8182 | 0.8153
6302600010 | 1.1689 | 1.1648
6302600020 | 1.052 | 1.0483
6302600030 | 1.052 | 1.0483
6302910005 | 1.052 | 1.0483
6302910015 | 1.1689 | 1.1648
6302910025 | 1.052 | 1.0483
6302910035 | 1.052 | 1.0483
6302910045 | 1.052 | 1.0483
6302910050 | 1.052 | 1.0483
6302910060 | 1.052 | 1.0483
6303110000 | 0.9448 | 0.9415
6303910010 | 0.6429 | 0.6406
6303910020 | 0.6429 | 0.6406
6304111000 | 1.0629 | 1.0592
6304190500 | 1.052 | 1.0483
6304191000 | 1.1689 | 1.1648
6304191500 | 0.4091 | 0.4077
6304192000 | 0.4091 | 0.4077
6304910020 | 0.9351 | 0.9318
6304920000 | 0.9351 | 0.9318
6505901540 | 0.181 | 0.1804
6505902060 | 0.9935 | 0.99
6505902545 | 0.5844 | 0.5824

* * * * *

Dated: August 7, 2001.
Kenneth C. Clayton,
Acting Administrator, Agricultural Marketing Service.

[FR Doc. 01-20188 Filed 8-10-01; 8:45 am]

BILLING CODE 3410-02-P